DEPARTMENT OF COMMERCE

National Oceanic and Atmospheric Administration

[I.D. 011102F]

North Pacific Fishery Management Council; Public Meeting; Correction

AGENCY: National Marine Fisheries Service (NMFS), National Oceanic and Atmospheric Administration (NOAA), Commerce.

ACTION: Notice of correction of a public meeting notice.

SUMMARY: The North Pacific Fishery Management Council’s (Council) Essential Fish Habitat (EFH) Committee will meet in Juneau, AK.

DATES: The meeting will be held on January 29-30, 2002.

ADDRESSES: The meeting will be held at the National Marine Fisheries Service Office, 709 W. 9th Street, 4th Floor, Juneau, AK.

Council address: North Pacific Fishery Management Council, 605 W. 4th Ave., Suite 306, Anchorage, AK 99501-2252.

FOR FURTHER INFORMATION CONTACT: Cathy Coon, North Pacific Fishery Management Council; 907-271-2809.

SUPPLEMENTARY INFORMATION: The original notice published in the Federal Register on January 16, 2002 (67 FR 2198). This notice serves as a correction to the address of the meeting. The original notice stated that the meeting would be held at the Alaska Fisheries Science Center in Seattle, WA.

All other previously-published information remains the same.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council’s intent to take final action to address the emergency.

Special Accommodations

These meetings are physically accessible to people with disabilities. Requests for sign language interpretation or other auxiliary aids should be directed to Helen Allen, 907-271-2809, at least 5 working days prior to the meeting date.

Dated: January 22, 2002.
Richard W. Surdi,
Acting Director, Office of Sustainable Fisheries,National Marine Fisheries Service.

[FR Doc. 02-1896 Filed 1-24-02; 8:45 am]

BILLING CODE 3510-22-S